ENVIRONMENTAL PROTECTION AGENCY

[EPA-R03-OW-2009-0985; FRL-9174-6]

Announcement To Extend the Recommended Determination Preparation Period for the Spruce No. 1 Surface Mine, Logan County, West Virginia

AGENCY: Environmental Protection Agency (EPA).

ACTION: Notice; Announcement of extension.

SUMMARY: EPA's regulations require that the Regional Administrator either withdraw the Spruce No. 1 Proposed Determination or prepare a Recommended Determination within 30 days after the conclusion of the public hearing (40 CFR 231.5(a)). However, in order to allow full consideration of the extensive record, including over 4000 public comments we received, EPA finds there is good cause to extend the time period provided in 40 CFR 231.5(a) until September 24, 2010. This time extension was made under authority of 40 CFR 231.8, which allows for such extensions upon a showing of good cause.

Dated: June 29, 2010.
William C. Early,
Acting Regional Administrator, Region III.

[FR Doc. 2010-16906 Filed 7-9-10; 8:45 am]

BILLING CODE 6560-50-P